DEPARTMENT OF THE INTERIOR

National Park Service

[NPS-WASO-NAGPRA-NPS0032919; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian Tribes or Native Hawaiian organizations, has determined that the cultural item listed in this notice meets the definition of a sacred object and object of cultural patrimony. Lineal descendants or representatives of any Indian Tribe or Native Hawaiian organization not identified in this notice that wish to claim this cultural item should submit a written request to the Denver Museum of Nature & Science. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Denver Museum of Nature & Science at the address in this notice by December 6, 2021.

FOR FURTHER INFORMATION CONTACT: Dr. Stephen E. Nash, Director of Anthropology, Denver Museum of Nature & Science, 2001 Colorado Boulevard, Denver, CO 80205, telephone (303) 370-6056, email Stephen.Nash@dmns.org.

SUPPLEMENTARY INFORMATION: Notice is here given in accordance with the Native American Graves Protection and Repatriation Act (NAGPRA), 25 U.S.C. 3005, of the intent to repatriate a cultural item under the control of the Denver Museum of Nature & Science, Denver, CO, that meets the definition of a sacred object and the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On an unknown date, Pat Read, owner of Pat Read Trading Company in Lawrence, KS, obtained a cultural item from an unknown source. On September 21, 1954, the item, a False Face mask (AC.290), was purchased from Read by Mary and Francis Crane. In November of 1972, Mary Crane donated the mask to the Denver Museum of Nature & Science (then called the Denver Museum of Natural History).

In 1974, anthropologist William Fenton stated that, based on his knowledge and expertise, the mask was “not typical of Iroquois work.” Furthermore, in 1999, during consultations between Haudenosaunee representatives and Denver Museum of Nature & Science curator Joyce Herold, certain cultural experts remarked that the mask was “probably not Iroquois made” and that it “should be shown to the Seneca-Cayuga in Oklahoma.” Following research conducted during 2015-2017, the Denver Museum of Nature & Science determined that, based on geographical, folkloric, oral traditional, and historical information, and consultation, this False Face Mask is culturally affiliated with the Seneca-Cayuga Nation.

Determinations Made by the Denver Museum of Nature & Science

Officials of the Denver Museum of Nature & Science have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Seneca-Cayuga Nation [previously listed as Seneca-Cayuga Tribe of Oklahoma].

Additional Requestors and Disposition

Lineal descendants or representatives of any Indian Tribe or Native Hawaiian organization not identified in this notice that wish to claim this cultural item should submit a written request with information in support of the claim to Dr. Stephen E. Nash, Director of Anthropology, Denver Museum of Nature & Science, 2001 Colorado Boulevard, Denver, CO 80205, telephone (303) 370-6056, email Stephen.Nash@dmns.org, by December 6, 2021. After that date, if no additional claimants have come forward, transfer of control of the sacred object and object of cultural patrimony to the Seneca-Cayuga Nation [previously listed as Seneca-Cayuga Tribe of Oklahoma] may proceed.

The Denver Museum of Nature & Science is responsible for notifying the Seneca-Cayuga Nation [previously listed as Seneca-Cayuga Tribe of Oklahoma] that this notice has been published.

Dated: October 23, 2021.
Melanie O'Brien,
Manager, National NAGPRA Program.

[FR Doc. 2021-24048 Filed 11-3-21; 8:45 am]

BILLING CODE 4312-52-P